DEPARTMENT OF THE INTERIOR

Fish and Wildlife Service

[FWS-R4-R-2008-N0314; 40136-1265-0000-S3]

Atchafalaya National Wildlife Refuge, St. Martin and Iberville Parishes, LA

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Atchafalaya National Wildlife Refuge (NWR). We provide this notice in compliance with our CCP policy to advise other agencies, tribes, and the public of our intentions, and to obtain suggestions and information on the scope of issues to consider in the planning process.

DATES: To ensure consideration, we must receive your written comments by February 23, 2009. A public meeting will be held during the scoping phase of the CCP development process. The date, time, and place for the meeting will be announced in the local media.

ADDRESSES: Comments, questions, and requests for information should be sent to: Tina Chouinard, Natural Resource Planner, Hatchie National Wildlife Refuge, 6772 Highway 76 South, Stanton, Tennessee 38069.

FOR FURTHER INFORMATION CONTACT: Tina Chouinard, Natural Resource Planner; Telephone: 731/780-8208; Fax: 731/772-7839; E-mail: tina_chouinard@fws.gov.

SUPPLEMENTARY INFORMATION:

Introduction

With this notice, we initiate our process for developing a CCP for Atchafalaya NWR in St. Martin and Iberville Parishes, Louisiana.

This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for State, Tribal, and local governments; agencies; organizations; and the public. At this time we encourage input in the form of issues, concerns, ideas, and suggestions for the future management of Atchafalaya NWR. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

Atchafalaya NWR is located in the lower Atchafalaya Floodway in St. Martin and Iberville Parishes, Louisiana. The name originated from its location within the Atchafalaya River Basin. Atchafalaya NWR is bounded on the north by U.S. Highway 190, on the south by Interstate 10, on the west by the Atchafalaya River, and on the east by the East Atchafalaya Protection Levee. Atchafalaya NWR is part of the Southeast Louisiana NWR Complex.

The Atchafalaya River Basin, located in south-central Louisiana, is a natural alluvial flood plain of the Atchafalaya River. The Atchafalaya River headwaters begin at Old River near Simmesport and flow to the Gulf of Mexico 140 miles to the south.

In order to provide for safe passage of major floods in the lower Mississippi River system below Old River, the Army Corps of Engineers (Corps) modified a portion of the natural Atchafalaya River Basin to convey flood water in excess of the capacity of the levied Mississippi River. The Atchafalaya River Basin Floodway was formed by constructing protection levees to the east, west, and parallel to the Atchafalaya River channel. In addition to the Atchafalaya River, two artificial intakes, the Morganza Floodway and the West Atchafalaya Floodway, have been provided to divert excess flood waters of the levied river channels into the Atchafalaya River Basin. The Atchafalaya River Basin Floodway is 65 miles long, 15 miles wide, and lies on either side of the Atchafalaya River from Krotz Springs, Louisiana, to Morgan City, Louisiana. This floodway is a southern extension of the Morganza and West Atchafalaya Floodways at the lower end of the Atchafalaya River Basin. Flow is discharged into the Atchafalaya Bay and Gulf of Mexico through the lower Atchafalaya River at Morgan City and through an artificial channel (known as the Wax Lake Outlet) about 10 miles west of Morgan City.

The Atchafalaya River Basin has been described as the greatest river swamp in the United States. It encompasses more than one-half million acres of wetlands that may produce as much wildlife as any area in the country. The basin provides habitat for a diversity of wildlife species. Its waters also support a tremendous sport and commercial fisheries' resource.

For years there was dispute over the conservation of the basin. Flood control, agriculture, energy development, recreation, and other interests in the basin were difficult to reconcile. All parties involved developed an agreement to resolve the major disputes. The agreement, which is incorporated in a feasibility study developed by the Corps for the basin, calls for specific flood control measures, water flow rates, and the purchase of flowage and conservation easements designed to keep the basin in a natural state, while providing navigation and flood protection for surrounding communities.

The agreement also calls for the acquisition and management of 90,000 acres within the basin for public access. The Dow Chemical Company donated 40,000 acres. The acquisition of the remaining 50,000 acres is to be split between the State of Louisiana and the Federal Government.

The Louisiana Department of Wildlife and Fisheries (LDWF) purchased 11,780 acres on September 13, 1983, and created the Sherburne Wildlife Management Area. In the 1984 Supplemental Appropriations Act (Pub. L. 98-396) passed by Congress and signed into law by President Reagan, a total of $10 million from the Land and Water Conservation Fund was appropriated to the Service to acquire lands and waters in the Atchafalaya River Basin in accordance with statutory authority applicable to the Fish and Wildlife Act of 1956. The land was purchased from the Iberville Land Company.

Atchafalaya NWR was established in 1986, when 15,220 acres in the basin, as directed by Public Law 98-548, were purchased. Since 1989, the Corps has purchased 37,000 acres of fee title land adjacent to and within the Atchafalaya NWR, which brought the current acreage among all three agencies to 64,000. The Corps is in the process of purchasing more land to add to the system.

Under the Cooperative Agreement (Contract No. 14-16-0004-86-946), all of the public access lands are managed by the LDWF. Since the Federal and State lands share common boundaries, LDWF technical and field personnel manage the wildlife on both the wildlife management area and the refuge. Service personnel are responsible for all forest management and issuance of special use permits.

Approximately 12 percent of the refuge is inundated open water, with isolated cypress trees and willow stands. Bottomland hardwood forest is the primary habitat. Self-guided tours can be accessed by auto, boat, or foot. Traditional use of the area is hunting, which follows the State's annual season dates and specific regulations. Camping is allowed nearby on the State's Sherburne Wildlife Management Area.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: December 5, 2008.
Cynthia K. Dohner,
Acting Regional Director.

[FR Doc. E9-186 Filed 1-8-09; 8:45 am]

BILLING CODE 4310-55-P